DEPARTMENT OF STATE

[Public Notice 5598]

Determination on U.S. Position on Proposed European Bank for Reconstruction and Development (EBRD) Project for Serbia

Pursuant to section 561 of the Foreign Operations, Export Financing, and Related Programs Appropriations Act, 2006 (Pub. L. 109-102) (FOAA), and Department of State Delegation of Authority Number 289, I hereby determine that the proposed project, a long-term 10 million euro EBRD loan to Štark, a.d., a leading Serbian confectionary company, to finance the company's modernization with the future goal of expanding its scope of operations in the region, will contribute to a stronger and more integrated economy in the Balkans and thus directly support implementation of the Dayton Accords. I therefore waive the application of Section 561 of the FOAA to the extent that provision would otherwise prevent the U.S. Executive Directors of the EBRD from voting in favor of this project.

This Determination shall be reported to the Congress and published in the Federal Register.

Dated: October 12, 2006.
Daniel Fried,
Assistant Secretary of State for European and Eurasian Affairs, Department of State.

[FR Doc. E6-18305 Filed 10-30-06; 8:45 am]

BILLING CODE 4710-23-P